DEPARTMENT OF ENERGY

Federal Energy Regulatory Commission

[Project No. 12485-002]

AMG Energy, LLC; Notice of Surrender of Preliminary Permit

January 12, 2006.

Take notice that AMG Energy, LLC, permittee for the proposed Claiborne Hydroelectric Project, has requested that its preliminary permit be terminated. The permit was issued on June 28, 2004, and would have expired on May 31, 2007.¹ The project would have been located on the Alabama River in Monroe County, Alabama.

The permittee filed the request on December 7, 2005, and the preliminary permit for Project No. 12485 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Magalie R. Salas,
Secretary.

¹ 107 FERC ¶ 62,287.

[FR Doc. E6-599 Filed 1-19-06; 8:45 am]

BILLING CODE 6717-01-P